FEDERAL COMMUNICATIONS COMMISSION

Notice of Public Information Collection(s) Being Reviewed by the Federal Communications Commission, Comments Requested

November 18, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 28, 2003. If you anticipate that you will be submitting comments, but find it difficult to do so within the period of time allowed by this notice, you should advise the contact listed below as soon as possible.

ADDRESSES: Direct all comments to Judith Boley Herman, Federal Communications Commission, Room 1-C804 or Room 1-A804, 445 12th Street, SW., Washington, DC 20554 or via the Internet to jboley@fcc.gov.

FOR FURTHER INFORMATION CONTACT: For additional information or copies of the information collection(s), contact Judith Boley Herman at 202-418-0214 or via the Internet at jboley@fcc.gov.

SUPPLEMENTARY INFORMATION: OMB Control No.: 3060-0241.

Title: Temporary Authorizations.

Form No.: N/A.

Type of Review: Revision of a currently approved collection.

Respondents: Business or other for-profit, not-for-profit institutions, and state, local and tribal government.

Number of Respondents: 145.

Estimated Time Per Response: 1.25-2 hours.

Frequency of Response: On occasion reporting requirement.

Total Annual Burden: 157 hours.

Total Annual Cost: $63,000.

Needs and Uses: The Commission is revising this collection to incorporate three other “temporary authorizations” which currently have OMB approval into one collection. They are OMB Control Numbers 3060-0245, 3060-0251, and 3060-0254. Otherwise there is no change or revision to any of these information collections. Upon OMB approval of 3060-0241, the Commission will cancel the other collections. Temporary authorizations are used by the Commission to ensure that interference will not be caused to other established stations and to ensure compliance with current FCC rules and regulations.

OMB Control No.: 3060-0240.

Title: Equipment Changes.

Form No.: N/A.

Type of Review: Revision of a currently approved collection.

Respondents: Business or other for-profit, not-for-profit institutions, and state, local and tribal government.

Number of Respondents: 36.

Estimated Time Per Response: .50-1 hour(s).

Frequency of Response: On occasion reporting requirement.

Total Annual Burden: 24 hours.

Total Annual Cost: $1,000.

Needs and Uses: The Commission is revising this collection to incorporate two other “equipment changes” which currently have OMB approval into one collection. They are OMB Control Numbers 3060-0243 and 3060-0246. Otherwise there is no change or revision to any of these information collections. Upon OMB approval of 3060-0240, the Commission will cancel the other collections. Equipment changes are used by the Commission to maintain complete technical records regarding the licensee's facilities and to ensure compliance with current FCC rules and regulations.

OMB Control No.: 3060-0690.

Title: Rules Regarding the 37.0-38.6 GHz and 38.6-40.0 GHz Bands.

Form No.: FCC Form 415 and 415-T.

Type of Review: Extension of a currently approved collection.

Respondents: Business or other for-profit.

Number of Respondents: 5,000.

Estimated Time Per Response: .50-20 hours.

Frequency of Response: On occasion reporting requirement.

Total Annual Burden: 75,625 hours.

Total Annual Cost: $5,000,000.

Needs and Uses: The collection of information is necessary because of the requirements regarding the above-referenced frequency bands. The information is used by the Commission staff to provide adequate point-to-point microwave spectrum, which will facilitate provision of communications infrastructure for commercial and private mobile radio operations and competitive wireless local telephone service. Without this information, the Commission would not be able to carry out its statutory responsibilities.

Federal Communications Commission.
Marlene H. Dortch,
Secretary.

[FR Doc. 02-30167 Filed 11-27-02; 8:45 am]

BILLING CODE 6712-01-P